DEPARTMENT OF COMMERCE

National Oceanic and Atmospheric Administration

Western Pacific Fishery Management Council; Public Meetings

AGENCY: National Marine Fisheries Service (NMFS), National Oceanic and Atmospheric Administration (NOAA), Commerce.

ACTION: Notice of change to public meeting agenda.

SUMMARY: The Western Pacific Fishery Management Council (Council) announces a change in the agenda for the 154th Council Meeting.

DATES: The 154th Council meeting will be held between 9 a.m. and 5:30 p.m. on June 26, 2012, between 8:30 a.m. and 5:30 p.m. on June 27, 2012, and between 8:30 a.m. and 4 p.m. on June 28, 2012. For specific times and agenda, see SUPPLEMENTARY INFORMATION.

ADDRESSES: The Council meeting will be held at the Laniakea YWCA-Fuller Hall, 1040 Richards Street, Honolulu, HI 96813; telephone: (808) 538-7061.

Council address: Western Pacific Fishery Management Council Office, 1164 Bishop Street, Suite 1400, Honolulu, HI 96813.

FOR FURTHER INFORMATION CONTACT: Kitty M. Simonds, Executive Director; telephone: (808) 522-8220.

SUPPLEMENTARY INFORMATION: The original notice published in the Federal Register on Tuesday, June 05, 2012 (77 FR 33195). This notice announces an amendment to the agenda. All other previously-published information remains the same.

The 154th Council meeting will be held between 9 a.m. and 5:30 p.m. on June 26, 2012, between 8:30 a.m. and 5:30 p.m. on June 27, 2012, and between 8:30 a.m. and 4 p.m. on June 28, 2012. Pelagics and International Fisheries is scheduled on the agenda for the afternoon session of the Council between 1:30 p.m. and 5:30 p.m. on June 27, 2012.

Revised Agenda for Item II: Pelagic & International Fisheries

A. Amendment Options for Marianas Purse Seine Area Closure (Action Item)

B. Recommendations on Territory Bigeye Tuna Catch Limits (Action Item)

C. Options for American Samoa Longline and Purse Seine Landing Requirements (Action Item)

D. Implementation of the Incidental Take Statement in the 2012 Biological Opinion for Hawaii Shallow-Set Longline Fishery (Action Item)

E. American Samoa and Hawaii Longline Quarterly Reports

F. International Fisheries Meetings

1. Eighth Regular Session of the Western and Central Pacific Fisheries Commission (WCPFC 8)

2. Inter-American Tropical Tuna Commission (IATTC) General Advisory Committee (GAC) and Scientific Sub-Committee (SAC) Meetings

3. U.S. Report to the Western and Central Pacific Tuna Commission

G. Council Coordination Committee (CCC) Recommendation on International Fisheries Management

H. Pelagic Plan Team Report

I. Scientific and Statistical Committee Discussion and Recommendations

J. Pelagic Standing Committee Report

K. Public Hearing

L. Council Discussion and Action

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 prior to the meeting date.

Authority: 16 U.S.C. 1801 et seq.

Dated: June 5, 2012.
William D. Chappell,
Acting Director, Office of Sustainable Fisheries, National Marine Fisheries Service.

[FR Doc. 2012-13984 Filed 6-7-12; 8:45 am]

BILLING CODE 3510-22-P